DEPARTMENT OF THE INTERIOR

National Park Service

[NPS-WASO-NRNHL-DTS#-31041; PPWOCRADI0, PCU00RP14.R50000]

National Register of Historic Places; Notification of Pending Nominations and Related Actions

AGENCY: National Park Service, Interior.

ACTION: Notice.

SUMMARY: The National Park Service is soliciting electronic comments on the significance of properties nominated before October 10, 2020, for listing or related actions in the National Register of Historic Places.

DATES: Comments should be submitted electronically by November 12, 2020.

ADDRESSES: Comments are encouraged to be submitted electronically to National_Register_Submissions@nps.gov with the subject line “Public Comment on property or proposed district name, (County) State.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before October 10, 2020. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

ALABAMA

Mobile County

Midtown Historic District (Boundary Increase), 2401-2403 and 2407 Old Shell Rd., Mobile, BC100005805

CALIFORNIA

Los Angeles County

Pasadena Field Archery Range, 415 South Arroyo Blvd., Pasadena, SG100005799

Riverside County

Desert Golf Course, 301 North Belardo Rd., Palm Springs, SG100005813

San Francisco County

Whelan, John A., House, 1315 Waller St., San Francisco, SG100005794

COLORADO

Denver County

First Avenue Hotel, 101 North Broadway, Denver, SG100005800

CONNECTICUT

Litchfield County

Winsted Water Works,Winchester Rd. (north side), Old Waterbury Tpk./Rugg Brook Rd., Winchester, SG100005797

GEORGIA

Fulton County

Cascade Heights Commercial Historic District, Centered on the jct. of Cascade Rd. SW and Benjamin E. Hayes Dr. SW, Atlanta, SG100005817

IOWA

Wapello County

Agassiz School, 608 East Williams St., Ottumwa, SG100005787

MASSACHUSETTS

Suffolk County

Crawford Street Historic District, 5-38 Crawford St., 42 Elm Hill Ave., 621 Warren St., Boston, SG100005798

NEW JERSEY

Mercer County

V. Henry Rothschild-F.A. Straus and Co. Atlantic Products Corporation Mill Complex, 1 North Johnston Ave., Hamilton Township, SG100005815

OHIO

Stark County

St. Joseph Roman Catholic Church Complex, 2427 Tuscarawas St. West, Canton, SG100005806

PUERTO RICO

San Juan Municipality

Rafael Cordero Graded School, (Early Twentieth Century Schools in Puerto Rico TR), Calle Aurora Esq. Horae Prada 15, Santurce vicinity, MP100005816

SOUTH DAKOTA

Roberts County

Sisseton School, (Schools in South Dakota MPS), 302 East Maple St., Sisseton, MP100005818

Sisseton School, (Federal Relief Construction in South Dakota MPS), 302 East Maple St., Sisseton, MP100005818

TENNESSEE

Blount County

Millennium Manor, 500 North Wright Rd., Alcoa, SG100005788

Montgomery County

Mt. Olive Cemetery, 951 Cumberland Dr., Clarksville, SG100005789

Rhea County

First Avenue Methodist Episcopal Church, 240 1st Ave., Dayton, SG100005790

Sullivan County

Kingsport Hosiery Mills, 435 Press St., Kingsport, SG100005791

Washington County

Johnson City Postal Savings Bank and Post Office, 401 Ashe St., Johnson City, SG100005792

Wayne County

Hughes House, 204 West Pillow St., Clifton, SG100005793

VIRGINIA

Alexandria Independent City

George Washington High School, 1005 Mount Vernon Ave., Alexandria, SG100005803

Craig County

Bellevue, 14505 Cumberland Gap Rd. (VA 42), New Castle vicinity, SG100005801

Halifax County

Oak Cliff, 10000 Huell Matthews Hwy. (US 501), Alton vicinity, SG100005804

Washington County

Depot Square Historic District, Wall St. South, Depot Sq. SW, Front St. SW, Grand St. SW, Abingdon, SG100005802

Additional documentation has been received for the following resources:

ARIZONA

Pima County

Armory Park Historic Residential District (Additional Documentation), East 12th St. to 19th St., Stone Ave. to 2nd Ave., Tucson, AD76000378

Hughes, Sam, Neighborhood Historic District (Additional Documentation), Roughly bounded by East Speedway Blvd., North Campbell Ave., East 7th St. and North, Bentley Ave., Tucson, AD94001164

KANSAS

Trego County

Wilcox School-District 29 & District 14 (Additional Documentation), (Public Schools of Kansas MPS), Rural Route -15 mi. south of WaKeeney on KS 283, Ransom, AD06000393

(Authority: Section 60.13 of 36 CFR part 60)

Dated: October 14, 2020.
Sherry A. Frear,
Chief, National Register of Historic Places/National Historic Landmarks Program.

[FR Doc. 2020-23681 Filed 10-26-20; 8:45 am]

BILLING CODE 4312-52-P